ENVIRONMENTAL PROTECTION AGENCY

40 CFR Part 98

[EPA-HQ-OAR-2011-0417; FRL-9780-4]

RIN 2060-AR74

Greenhouse Gas Reporting Rule: Revision to Best Available Monitoring Method Request Submission Deadline for Petroleum and Natural Gas Systems Source Category

AGENCY: Environmental Protection Agency (EPA).

ACTION: Proposed rule.

SUMMARY: The EPA is proposing to revise the deadline by which owners or operators of facilities subject to the petroleum and natural gas systems source category of the Greenhouse Gas Reporting Rule must submit requests for use of best available monitoring methods to the Administrator. This proposed revision does not change any other requirements for owners or operators as outlined in the best available monitoring method rule provisions.

DATES: Written comments must be received on or before March 21, 2013.

Public Hearing. A public hearing will be held if requested. To request a hearing, please contact the person listed in the FOR FURTHER INFORMATION CONTACT section by February 26, 2013. If requested, the hearing will be conducted on March 6, 2013, in the Washington, DC area. EPA will publish a notice in the Federal Register with further information about the public hearing if a public hearing is requested.

ADDRESSES: Submit your comments, identified by docket ID No. EPA-HQ-OAR-2011-0417 by one of the following methods:

• Federal eRulemaking Portal: http://www.regulations.gov. Follow the online instructions for submitting comments.

• Email: GHG_Reporting_Rule_Oil_And_Natural_Gas@epa.gov.

• Fax: (202) 566-9744.

• Mail: Environmental Protection Agency, EPA Docket Center (EPA/DC), Mailcode 6102T, Attention Docket ID No. EPA-HQ-OAR-2011-0417, 1200 Pennsylvania Avenue NW., Washington, DC 20460.

• Hand/Courier Delivery: EPA Docket Center, Public Reading Room, EPA West Building, Room 3334, 1301 Constitution Avenue NW., Washington, DC 20004. Such deliveries are only accepted during the Docket's normal hours of operation, and special arrangements should be made for deliveries of boxed information.

Instructions: Direct your comments to Docket ID No. EPA-HQ-OAR-2011-0417. EPA's policy is that all comments received will be included in the public docket without change and may be made available online at http://www.regulations.gov, including any personal information provided, unless the comment includes information claimed to be confidential business information (CBI) or other information whose disclosure is restricted by statute. Do not submit information that you consider to be CBI or otherwise protected through http://www.regulations.gov or email. Send or deliver information identified as CBI to only the mail or hand/courier delivery address listed above, attention: Docket ID No. EPA-HQ-OAR-2011-0417. The http://www.regulations.gov Web site is an “anonymous access” system, which means EPA will not know your identity or contact information unless you provide it in the body of your comment. If you send an email comment directly to EPA without going through http://www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Air Docket, EPA/DC, EPA West Building, Room B102, 1301 Constitution Ave., NW., Washington, DC. This Docket Facility is open from 8:30 a.m. to 4:30 p.m., Monday through Friday, excluding legal holidays. The telephone number for the Public Reading Room is (202) 566-1744, and the telephone number for the Air Docket is (202) 566-1742.

FOR FURTHER INFORMATION CONTACT: Carole Cook, Climate Change Division, Office of Atmospheric Programs (MC-6207J), Environmental Protection Agency, 1200 Pennsylvania Ave. NW., Washington, DC 20460; telephone number: (202) 343-9263; fax number: (202) 343-2342; email address: GHGReportingRule@epa.gov. For technical information, contact the Greenhouse Gas Reporting Rule Hotline at: http://www.epa.gov/ghgreporting/reporters/index.html. To submit a question, select Rule Help center, then select Contact us.

SUPPLEMENTARY INFORMATION:

Why is the EPA issuing this proposed rule?

EPA is proposing to revise the deadline in 40 CFR 98.234(f)(8)(i) by which owners or operators of facilities subject to the petroleum and natural gas systems source category, subpart W, of the Greenhouse Gas Reporting Rule must submit a request to use best available monitoring methods to the Administrator. We have published a direct final rule making this revision in the “Rules and Regulations” section of this Federal Register because the EPA views this as a noncontroversial action and no adverse comments are anticipated. A further explanation for the reasons for this action is in the preamble to the direct final rule.

If we receive no adverse comment, we will not take further action on this proposed rule. If the EPA receives relevant adverse comment, we will publish a timely withdrawal notice in the Federal Register to inform the public that the direct final rule, or the relevant portion of the direct final rule, will not take effect. The rule provisions that are not withdrawn will become effective on the date set out in the direct final rule, notwithstanding relevant adverse comment on any other provision, unless we determine that it would not be appropriate to promulgate those provisions due to their being affected by the provision for which we receive relevant adverse comment. If the EPA does receive relevant adverse comment on the direct final rule and withdraws the direct final rule, we will address all public comments in any subsequent final rule based on this proposal. We will not institute a second comment period on this action. Any parties interested in commenting on the specific changes being made must do so by the comment deadline listed in the DATES section of this document. The EPA will not consider a comment to be adverse if a comment pertains to an aspect of part 98 or 40 CFR part 98, subpart W that is not addressed in the direct final rule. For further information about commenting on this action, please see the information provided in the ADDRESSES section of this document.

List of Subjects in 40 CFR Part 98

Environmental protection, Administrative practice and procedures, Air pollution control, Greenhouse gases, Monitoring, Reporting and recordkeeping requirements.

Dated: February 6, 2013.
Lisa P. Jackson,
Administrator.

[FR Doc. 2013-03468 Filed 2-15-13; 8:45 am]

BILLING CODE 6560-50-P